DEPARTMENT OF STATE

[Public Notice 5884]

Federal Advisory Committee on Transformational Diplomacy; Notice of Meeting

The Secretary of State's Advisory Committee on Transformational Diplomacy (“Committee”) will conduct and open meeting on Friday, September 14, 2007, from 8 a.m. to 10:15 a.m. in Room 7516 HST, U.S. Department of State, 2201 C Street, NW., Washington, DC. The purpose of this meeting is to review progress on the proposed recommendations that the Committee will submit to the Secretary in final form at a later date and to receive briefings from Department officials.

The provisional agenda calls for the Committee to consider draft recommendations from each working group and to discuss as necessary. This meeting is open to the public from 8 a.m. until 10:15 a.m. as seating capacity allows. The Committee will meet in closed session from 10:30 a.m. until 11:30 a.m. to receive a secure briefing focused on classified information. It has been determined that this portion of the meeting will be closed to the public pursuant to Section 10 (d) of the Federal Advisory Committee Act and 5 U.S.C. 552b [c][1].

Entry to the building is controlled; to obtain pre-clearance for entry, members of the public (including government employees and Department of State employees) planning to attend should provide by no later than September 10, 2007, their name; place of birth and date of birth; citizenship (country); ID number, i.e., U.S. government ID (agency), U.S. military ID (branch), passport (country), or drivers license number (state); professional affiliation, address, and telephone number to Carlene Roy by fax (202) 647-2524, e-mail (royc@state.gov), or telephone (202) 647-0093. Members of the public also may file a written statement with the Committee.

One of the following valid photo IDs will be required for admittance to the State Department building: U.S. driver's license, passport, or U.S. Government agency ID. Members of the public must use the “C” Street entrance, after going through the exterior screening facilities. Due to escorting requirements, attendees should arrive 15 minutes before the meeting begins.

For additional information, contact Madelyn Marchessault, Office of Management Policy, at (202) 647-0093 or at Marchessaultms@state.gov.

Dated: August 10, 2007.
Marguerite Coffey,
Managing Director Office of Management Policy, Department of State.

[FR Doc. E7-16458 Filed 8-20-07; 8:45 am]

BILLING CODE 4710-35-P